DEPARTMENT OF TRANSPORTATION

Federal Aviation Administration

14 CFR Part 39

[Docket No. 2001-NM-10-AD; Amendment 39-12489; AD 2001-22-10]

RIN 2120-AA64

Airworthiness Directives; Dassault Model Mystere-Falcon 50, Mystere-Falcon 900, and Falcon 900EX Series Airplanes

AGENCY: Federal Aviation Administration, DOT.

ACTION: Final rule.

SUMMARY: This amendment adopts a new airworthiness directive (AD), applicable to all Dassault Model Mystere-Falcon 50, Mystere-Falcon 900, and Falcon 900EX series airplanes, that requires revising the Emergency Procedures and Abnormal Procedures sections of the airplane flight manual to advise the flightcrew to immediately don oxygen masks in the event of significant pressurization or oxygen level changes. The actions specified by this AD are intended to prevent incapacitation of the flightcrew due to lack of oxygen, which could result in their inability to continue to control the airplane. This action is intended to address the identified unsafe condition.

DATES: Effective December 3, 2001.

ADDRESSES: Information pertaining to this AD may be examined at the Federal Aviation Administration (FAA), Transport Airplane Directorate, Rules Docket, 1601 Lind Avenue, SW., Renton, Washington.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: A proposal to amend part 39 of the Federal Aviation Regulations (14 CFR part 39) to include an airworthiness directive (AD) that is applicable to all Dassault Model Mystere-Falcon 50, Mystere-Falcon 900, and Falcon 900EX series airplanes was published in the Federal Register on April 17, 2001 (66 FR 19727). That action proposed to require revising the Emergency Procedures and Abnormal Procedures sections of the airplane flight manual to advise the flightcrew to immediately don oxygen masks in the event of significant pressurization or oxygen level changes.

Comments

Interested persons have been afforded an opportunity to participate in the making of this amendment. Due consideration has been given to the comment received.

Request To Include Certain Changes to the Airplane Flight Manual (AFM)

The manufacturer reports the issuance of certain AFM changes, which correspond to the Figures associated with paragraphs (a) through (f) of this AD. The following AFM changes have been issued:

Figure in AD | Model/ Series | Type of change | Change No.
1 | MF900 | AFM routine revision | 24
1 | MF50 | AFM routine revision | 32
2 | MF50 | AFM routine revision | 32
3 | MF900 | AFM routine revision | 24
4 | F900EX | AFM routine revision | 6
5 | F900C | AFM routine revision | 2
6 | F50EX | AFM routine revision | 5

The FAA has accordingly revised the final rule to replace Note 1 of the proposed AD with new paragraph (g) of the final rule. Paragraph (g) specifies that the insertion of those AFM changes (also listed in Table 1 of this AD) into the AFM are acceptable for compliance with the corresponding requirements of this AD.

Conclusion

After careful review of the available data, including the comment noted above, the FAA has determined that air safety and the public interest require the adoption of the rule, with the change described previously. The FAA has determined that this change will neither increase the economic burden on any operator nor increase the scope of the AD.

Cost Impact

The FAA estimates that 137 airplanes of U.S. registry will be affected by this AD. It will take approximately 1 work hour per airplane to accomplish the actions, at an average labor rate of $60 per work hour. Based on these figures, the cost impact of this AD on U.S. operators is estimated to be $8,220, or $60 per airplane.

The cost impact figure discussed above is based on assumptions that no operator has yet accomplished any of the requirements of this AD, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-22-10 Dassault Aviation: Amendment 39-12489. Docket 2001-NM-10-AD.

Applicability: All Model Mystere-Falcon 50, Mystere-Falcon 900, and Falcon 900EX series airplanes; certificated in any category.

Compliance: Required as indicated, unless accomplished previously.

To prevent incapacitation of the flightcrew due to lack of oxygen, which could result in their inability to continue to control the airplane, accomplish the following:

Revision of Airplane Flight Manual (AFM) Emergency Procedures

(a) For Model Mystere-Falcon 50 series airplanes having serial numbers (S/Ns) 1 through 250 inclusive and 252, and Mystere-Falcon 900 series airplanes having S/Ns 1 through 178 inclusive: Within 10 days after the effective date of this AD, revise the Emergency Procedures section of the FAA-approved AFM to include the procedures listed in Figure 1 of this AD. This revision may be done by inserting a copy of Figure 1 into the AFM.

Revision of AFM Abnormal Procedures Section

(b) For Model Mystere-Falcon 50 series airplanes as identified in paragraph (a) of this AD: Within 10 days after the effective date of this AD, revise the Abnormal Procedures section of the AFM to include the procedures listed in Figure 2 of this AD. This revision may be done by inserting a copy of Figure 2 into the AFM.

BILLING CODE 4910-13-U

(c) For Model Mystere-Falcon 900 series airplanes as identified in paragraph (a) of this AD: Within 10 days after the effective date of this AD, revise the Abnormal Procedures section of the AFM by including the procedures listed in Figure 3 of this AD. This revision may be done by inserting a copy of Figure 3 into the AFM.

(d) For all Model Falcon 900EX series airplanes: Within 10 days after the effective date of this AD, revise the Abnormal Procedures section of the AFM by including the procedures listed in Figure 4 of this AD. This revision may be done by inserting a copy of Figure 4 into the AFM.

(e) For Model Mystere-Falcon 900 series airplanes having serial numbers 179 and subsequent: Within 10 days after the effective date of this AD, revise the Abnormal Procedures section of the AFM by including the procedures listed in Figure 5 of this AD. This revision may be done by inserting a copy of Figure 5 into the AFM.

(f) For Model Mystere-Falcon 50 series airplanes having serial numbers 251, 253, and subsequent: Within 10 days after the effective date of this AD, revise the Abnormal Procedures section of the AFM by including the procedures listed in Figure 6 of this AD. This revision may be done by inserting a copy of Figure 6 into the AFM.

BILLING CODE 4910-13-U

(g) Insertion into the AFM of the applicable AFM revision in Table 1 of this AD, or insertion of a subsequent AFM revision that contains procedures identical to those in the applicable Figure of this AD, is acceptable for compliance with the corresponding requirements of this AD. Table 1 of this AD follows:

Table 1.—Alternative Sources of Service Information
Figure in AD | Model/Series | AFM revision
1 | MF900 | 24
1 | MF50 | 32
2 | MF50 | 32
3 | MF900 | 24
4 | F900EX | 6
5 | F900C | 2
6 | F50EX | 5

Alternative Methods of Compliance

(h) An alternative method of compliance or adjustment of the compliance time that provides an acceptable level of safety may be used if approved by the Manager, International Branch, ANM-116, Transport Airplane Directorate, FAA. Operators shall submit their requests through an appropriate FAA Principal Operations Inspector, who may add comments and then send it to the Manager, International Branch, ANM-116.

Note 1: Information concerning the existence of approved alternative methods of compliance with this AD, if any, may be obtained from the International Branch, ANM-116.

Special Flight Permits

(i) Special flight permits may be issued in accordance with sections 21.197 and 21.199 of the Federal Aviation Regulations (14 CFR 21.197 and 21.199) to operate the airplane to a location where the requirements of this AD can be accomplished.

Note 2: The subject of this AD is addressed in French airworthiness directives 2000-536-032(B), dated December 27, 2000; and 2000-536-032(B) R1, dated February 7, 2001.

Effective Date

(j) This amendment becomes effective on December 3, 2001.

Issued in Renton, Washington, on October 22, 2001.
Vi L. Lipski,
Manager, Transport Airplane Directorate, Aircraft Certification Service.

[FR Doc. 01-27070 Filed 10-26-01; 8:45 am]

BILLING CODE 4910-13-U